DEPARTMENT OF LABOR

Office of the Secretary

Submission for OMB Review; Comment Request

December 18, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting the Department of Labor. To obtain documentation, contact Darrin King on (202) 693-4129 (this is not a toll-free number) or e-mail: king.darrin@dol.gov.

Comments should be sent to Office of Information and Regulatory Affairs, Attn: OMB Desk Officer for DOL, Office of Management and Budget, Room 10235, Washington, DC 20503 (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Chief Financial Officer.

Type of Review: Extension of a currently approved collection.

Title: Disclosure of Information to Credit Reporting Agencies; Administrative Offset, Interest, Penalties, and Administrative Costs.

OMB Number: 1225-0030.

Affected Public: Individuals or households; Business or other for-profit; Not-for-profit institutions; and Farms.

Type of Response: Reporting.

Frequency: On occasion.

Number of Respondents: 3,500.

Number of Annual Responses: 7,000.

Estimated Time Per Response: 1.75 hours.

Total Burden Hours: 12,250.

Total Annualized Capital/Startup Costs: $0.

Total Annual Costs (operating/maintaining systems or purchasing services): $0.

Description: The Debt Collection Act of 1982, the Debt Collection Improvement Act of 1996 (Pub. L. 104-134), and the Federal Claims Collections Standards, as implemented in the Department of Labor by 29 CFR part 20, require Federal agencies to afford debtors the opportunity to exercise certain rights before the agency reports a debt to a credit bureau or makes an administrative offset. In the exercise of these rights, the debtor may be asked to provide a written explanation of the basis for disputing the amount of existence of a debt alleged owned the agency. A debtor may also be required to provide asset, income, liability, or other information necessary for the agency to determine the debtor's ability to repay the debt, including any interest, penalties and administrative costs assessed.

Information provided by the debtor will be evaluated by the agency official responsible for collection of the debt in order to reconsider his/her initial decision with regard to the existence or amount of the debt. Information concerning the debtor's assets, income, liabilities, etc., will be used by the agency official responsible for collection of the debt to determine whether the agency's action with regard to administrative offset or the assessment of interest, administrative costs or penalties would create undue financial hardship for the debtor, or to determine whether the agency should accept the debtor's proposed repayment schedule.

If a debtor disputes or asks for reconsideration of the agency's determination concerning the debt, the debtor will be required to provide the information or documentation necessary to state his/her case. Presumably, the agency's initial determination would not change without the submission of new information.

Information such as the debtor's assets, income, and liabilities would typically not be available to the agency unless submitted by the debtor.

Ira Mills,
Departmental Clearance Officer.

[FR Doc. 04-154 Filed 1-5-04; 8:45 am]

BILLING CODE 4510-23-M